ENVIRONMENTAL PROTECTION AGENCY

[EPA-HQ-OPPT-2020-0077; FRL-10005-73]

Certain New Chemicals; Receipt and Status Information for January 2020

AGENCY: Environmental Protection Agency (EPA).

ACTION: Notice.

SUMMARY: EPA is required under the Toxic Substances Control Act (TSCA) to make information publicly available and to publish information in the Federal Register pertaining to submissions under TSCA, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 01/01/2020 to 01/31/2020.

DATES: Comments identified by the specific case number provided in this document must be received on or before April 9, 2020.

ADDRESSES: Submit your comments, identified by docket identification (ID) number EPA-HQ-OPPT-2020-0077, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, Information Management Division (7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from 01/01/2020 to 01/31/2020. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the TSCA, 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995, (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs that have passed an initial screening by EPA during this period, Table I provides the following information (to the extent that such information is not subject to a CBI claim) on the notices screened by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g. P-18-1234A). The version column designates submissions in sequence as “1”, “2”, “3”, etc. Note that in some cases, an initial submission is not numbered as version 1; this is because earlier versions were rejected as incomplete or invalid submissions. Note also that future versions of the following tables may adjust slightly as the Agency works to automate population of the data in the tables.

Table I—PMN/SNUN/MCANs Approved * From 01/01/2020 to 01/31/2020
Case No. | Version | Received date | Manufacturer | Use | Chemical substance.
J-19-0026A | 4 | 01/14/2020 | CBI | (G) Production of biofuel | (G) Biofuel-producing modified microorganism(s), with chromosomally-borne modifications.
J-19-0027A | 4 | 01/14/2020 | CBI | (G) Production of biofuel | (G) Biofuel-producing modified microorganism(s), with chromosomally-borne modifications.
P-16-0425A | 4 | 01/31/2020 | CBI | (G) a chemical reactant used in manufacturing a polymer | (G) amino-silane.
P-17-0117A | 4 | 01/29/2020 | CBI | (G) Use as a polyol for polyurethane manufacture. Reaction of the new substance with a diisocyanate or polyisocyanate in a blend with other polyols will produce a higher MW polymer. (S) Used as a feedstock for hydrogenation to produce a saturated diol for use in urethane chemistry or as an additive in coatings, adhesives or sealants | (S) 1,6,10-Dodecatriene, 7,11-dimethyl-3-methylene-, (6E)-, homopolymer, 2-hydroxypropyl-terminated.
P-17-0118A | 4 | 01/29/2020 | CBI | (G) Use as a polyol for polyurethane manufacture. Reaction of the new substance with a diisocyanate or polyisocyanate and other polyols will produce a higher MW polymer. (S) Used as a feedstock for hydrogenation to produce a saturated diol for use in urethane chemistry or as an additive in coatings, adhesives or sealants | (S) 1,6,10-Dodecatriene, 7,11-dimethyl-3-methylene-, (6E)-, homopolymer, 2-hydroxyethyl-terminated.
P-17-0230A | 4 | 01/21/2020 | CBI | (G) Additive, open, non-dispersive use | (G) Oxirane, 2-alkyl-, polymer with oxirane, mono[N-[3-(carboxyamino)-4(or 6)-alkylphenyl]carbamate], alkyl ether, ester with 2,2′,2″-nitrilotris-[alkanol].
P-17-0235A | 6 | 12/19/2019 | CBI | (G) Anti-agglomerate | (G) Amidoamino quaternary ammonium salt.
P-17-0333A | 6 | 01/16/2020 | Miwon North America, Inc | (S) Reactive diluent for optical film coating | (G) 2-Propenoic acid, mixed esters with heterocyclic dimethanol and heterocyclic methanol.
P-17-0395A | 6 | 01/24/2020 | CBI | (G) Water treatment additive | (G) Alkyl tri dithiocarbmate tri salt.
P-18-0007A | 3 | 12/20/2019 | Nexoleum USA Corp | (S) Used as a plasticizer/stabilizer for flexible PVC | (S) Glycerides, soya mono- and di-, epoxidized, acetates.
P-18-0007A | 4 | 12/27/2019 | Nexoleum USA Corp | (S) Used as a plasticizer/stabilizer for flexible PVC | (S) Glycerides, soya mono- and di-, epoxidized, acetates.
P-18-0008A | 3 | 12/20/2019 | Nexoleum USA Corp | (S) Used as a plasticizer/stabilizer for flexible PVC | (S) Glycerides, C16-18 and C18-unsatd. mono- and di-, epoxidized, acetates.
P-18-0008A | 4 | 12/27/2019 | Nexoleum USA Corp | (S) Used as a plasticizer/stabilizer for flexible PVC | (S) Glycerides, C16-18 and C18-unsatd. mono- and di-, epoxidized, acetates.
P-18-0012A | 6 | 12/19/2019 | CBI | (G) Adhesives | (G) Polyester polyol.
P-18-0031A | 7 | 01/09/2020 | CBI | (G) Ingredient for industrial coating | (G) Substituted dicarboxylic acid, polymer with various alkanediols.
P-18-0058A | 3 | 01/29/2020 | CBI | (S) Component of electroconductive low-noise grease for long-term lubrication of capped or sealed ball bearings | (S) Phosphonium, trihexyltetradecyl-, salt with 1,1,1-trifluoro-N-[(trifluoromethyl)sulfonyl]methanesulfonamide (1:1).
P-18-0063A | 3 | 01/16/2020 | Ethox Chemicals, LLC | (G) This material is used as a lubricant additive for applications such as stamping, forming, cutting, drilling, or otherwise working metals | (G) alcohol alkoxylate phosphate.
P-18-0067A | 4 | 01/12/2020 | CBI | (G) Adjuvant agent | (S) Fatty acids, C14-18 and C16-18-unsatd., polymers with adipic acid and triethanolamine, di-Me sulfate-quaternized.
P-18-0070A | 10 | 12/20/2019 | Arrowstar, LLC | (G) Chemical intermediate for polyurethane industry | (G) Waste plastics, polyester, depolymd. with glycols, polymers with dicarboxylic acids.
P-18-0093A | 4 | 12/19/2019 | CBI | (G) Additive to plastics | (G) Pentacyclo[9.5.1.13,9.15,15.17,13]octasiloxane, 1,3,5,7,9,11,13,15-octakis (polyfluoroalkyl)-.
P-18-0094A | 4 | 12/19/2019 | CBI | (G) Additive to plastics | (G) Pentacyclo[9.5.1.13,9.15,15.17,13]octasiloxanealkylsubstituted, 3,5,7,9,11,13,15-heptakis(polyfluoroalkyl)-.
P-18-0095A | 4 | 12/19/2019 | CBI | (G) Additive to plastics | (G) Pentacyclo[9.5.1.13,9.15,15.17,13]octasiloxanealkanol, 3,5,7,9,11,13,15-heptakis(polyfluoroalkyl)-, acetate.
P-18-0104A | 7 | 01/28/2020 | CBI | (S) Halogen free flame retardant in thermoplastic polymers | (G) Acrylic acid, reaction products with pentaerythritol, polymerized.
P-18-0108A | 2 | 01/20/2020 | CBI | (G) Ionic salt of a polyamic acid for coatings, open, non-dispersive use | (G) Aromatic anhydride polymer with bisalkylbiphenylbisamine compound with alkylaminoalkyl acrylate ester.
P-18-0151A | 7 | 12/17/2019 | Struers, Inc | (S) A curing agent for curing epoxy systems | (S) Formaldehyde, reaction products with 1,3-benzenedimethanamine and p-tert-butylphenol.
P-18-0151A | 8 | 01/28/2020 | Struers, Inc. | (S) A curing agent for curing epoxy systems | (S) Formaldehyde, reaction products with 1,3-benzenedimethanamine and p-tert-butylphenol.
P-18-0173A | 3 | 01/13/2020 | CBI | (S) Thickener for paint and coatings | (G) Poly (oxy1,2-alkydiyl) hydroxy polymer with cyanoato butylalcohol.
P-18-0187A | 4 | 01/09/2020 | CBI | (G) Emulsifier | (G) Carboxylic acid-polyamine condensate.
P-18-0226A | 6 | 12/19/2019 | CBI | (G) Anti-agglomerate | (G) Tri alkyl, mono alkoxy, fatty acid ester, ammonium salt.
P-18-0307A | 3 | 01/16/2020 | CBI | (G) Binder resin in coatings | (G) Alkyl Alkenoic acid, alkyl ester, telomer with alkyl alkenoate, substituted alkyl alkyl alkenoate, alkylthiol, substituted carbomonocycle, hydroxyalkyl alkyl alkenoate and alkyl alkyl alkenoate.
P-18-0328A | 2 | 01/06/2020 | CBI | (G) Chemical intermediate for the manufacture of plasticizer | (G) Plant oil fatty acids, alkyl esters.
P-18-0329A | 2 | 12/19/2019 | CBI | (G) Component of lenses used in electronic applications | (G) Substituted carbopolycyclic dicarboxylic acid dialkyl ester, polymer with alkanediol and carbopolycyclic bis (substituted carbopolycycle) bisalkanol.
P-19-0002A | 5 | 12/17/2019 | CBI | (S) Chemical Intermediate | (G) Polyaromatic symmetrical tetracarboxylic acid.
P-19-0003A | 4 | 12/17/2019 | CBI | (S) Chemical Intermediate | (G) Polyaromatic ether symmetrical dicarboxylic anhydride.
P-19-0004A | 4 | 12/17/2019 | CBI | (G) molded parts and components | (G) Aromatic dianhydride, polymer with aromatic diamine and heteroatom bridged aromatic diamine, reaction products with aromatic anhydride.
P-19-0048A | 4 | 12/18/2019 | CBI | (G) Coating additive | (S) Poly(oxy-1,2-ethanediyl), .alpha.-hydro-.omega.-hydroxy-, mono-C12-14-alkyl ethers, phosphates, sodium salts.
P-19-0048A | 5 | 12/19/2019 | CBI | (G) Coating additive | (S) Poly(oxy-1,2-ethanediyl), .alpha.-hydro-.omega.-hydroxy-, mono-C12-14-alkyl ethers, phosphates, sodium salts.
P-19-0053A | 6 | 12/20/2019 | Wacker Chemical Corporation | (S) Used as a surface treatment, sealant, caulk, and coating for mineral building materials such as concrete, brick, limestone, and plaster, as well as on wood, metal and other substrates. Formulations containing the cross-linker provide release and anti-graffiti properties, water repellency, weather proofing, and improved bonding in adhesive/sealant applications. The new substance is a moisture curing cross-linking agent which binds/joins polymers together when cured. Ethanol is released during cure, and once the cure reaction is complete, the product will remain bound in the cured polymer matrix | (S) 1-Butanamine, N-butyl-N-[(triethoxysilyl)methyl]-.
P-19-0095A | 6 | 01/23/2020 | CBI | (G) Consumer Disposables, (G) Polymer Sheet, (G) Durable Goods | (G) Poly hydroxy alkanoate.
P-19-0103A | 5 | 01/06/2020 | CBI | (G) Well performance monitor | (G) Halogenated benzoic acid, ethyl ester.
P-19-0109A | 5 | 01/09/2020 | Arch Chemicals, Inc | (S) Chemical is used as a component of a cleaning formulation to improve the wettability of the overall cleaning solution on the substrate | (S) Copper, [[2,2′,2″-(nitrilo-.kappa.N)tris[ethanolato-.kappa.O]](2-)]-; (S) Copper, bis[2-(amino-.kappa.N)ethanolato-.kappa.O]-;.
P-19-0109A | 6 | 01/14/2020 | Arch Chemicals, Inc | (S) Chemical is used as a component of a cleaning formulation to improve the wettability of the overall cleaning solution on the substrate | (S) Copper, [[2,2′,2″-(nitrilo-.kappa.N)tris[ethanol-.kappa.O]](2-)]-; (S) Copper, bis[2-(amino-.kappa.N)ethanolato-.kappa.O]-;.
P-19-0109A | 7 | 01/23/2020 | Arch Chemicals, Inc | (S) Chemical is used as a component of a cleaning formulation to improve the wettability of the overall cleaning solution on the substrate | (S) Copper, [[2,2′,2″-(nitrilo-.kappa.N)tris[ethanolato-.kappa.O]](2-)]-;(S) Copper, bis[2-(amino-.kappa.N)ethanolato-.kappa.O]-;.
P-19-0143A | 5 | 12/23/2019 | Aditya Birla Chemicals (USA), LLC | (S) A crosslinking agent for use in epoxy resin for water-based coating for a variety of substrates and civil applications in commercial and consumer usages | (G) Aldehyde, polymer with mixed alkanepolyamines, 2,2′-[1,4-alkanediylbis(oxyalkylene)] bis[oxirane], 2-(alkoxyalkyloxirane, 4,4′-(1-alkylidene)bis[phenol], 2,2′-[(1-alkylidene)bis(4,1-alkyleneoxyalkylene)]bis[oxirane] and 2-(aryloxyalkyl)oxirane, acetate (salt).
P-19-0144A | 5 | 12/23/2019 | Aditya Birla Chemicals (USA), LLC | (S) A crosslinking agent in epoxy based self-leveling floor coatings | (G) Alkanedioic Acid, compds. With substituted arylalkylamine- arylalcohol disubstituted alkane-the diglycidyl ether of a arylalcohol disubstituted alkane -epichlorohydrin-aldehyde-2,2′-[(1-alkylidene)bis[4,1-aryleneoxy(alkyl-2,1-alkanediyl)oxyalkylene]]bis[oxirane]-alkanepolyamine polymer-1-[[2-[(2-aminoalkyl)amino]alkyl]amino]-3-aryloxy-2-alcohol reaction products.
P-19-0155A | 5 | 12/17/2019 | Huntsman International, LLC | (S) Adjuvant for agrochemical formulations | (S) Amides, from C8-18 and C18-unsatd. glycerides and diethylenetriamine, ethoxylated.
P-19-0156A | 5 | 12/17/2019 | Huntsman International, LLC | (S) Adjuvant for agrochemical formulations | (S) Amides, from diethylenetriamine and palm kernel-oil, ethoxylated.
P-19-0157A | 5 | 12/17/2019 | Huntsman International, LLC | (S) Adjuvant in agrochemical formulations | (S) Amides, from coconut oil and diethylenetriamine, ethoxylated.
P-19-0158A | 6 | 01/06/2020 | Ashland, Inc. | (G) Adhesive | (G) Alkenoic acid polymer with 2-ethyl-2-(hdroxymethyl)-1,3-alkyldiol, 1,1′-methylenebis(4-isocyantocarbomonocycle) and 3-methyl-1,5-aklydiol.
P-19-0164A | 2 | 01/03/2020 | Allnex USA, Inc. | (S) Site limited intermediate for coating resin manufacture | (G) Bis-alkoxy substituted alkane, polymer with aminoalkanol.
P-19-0166A | 2 | 01/30/2020 | Fujifilm Electronic Materials USA, Inc | (G) Photoacid generator (PAG) | (G) Triarylsulfonium alkylestersulfonate,.
P-19-0168A | 5 | 12/19/2019 | CBI | (G) Well performance tracer | (G) Halogenated alkylbenzoic acid.
P-19-0169A | 5 | 12/19/2019 | CBI | (G) Well performance monitor | (G) Halogenated alkylbenzoic acid.
P-20-0010A | 3 | 01/07/2020 | CBI | (G) Polymerization auxiliary | (G) Carboxylic acid, reaction products with metal hydroxide, inorganic dioxide and metal.
P-20-0015 | 4 | 01/13/2020 | GE Healthcare | (S) The polymer is used in the manufacture of hollow fiber products | (G) Zwitterionic polysulfone polymer;(G) N-alkyl heteromonocyclic diphenolamide, polymer with Bisphenol A, haloaryl-substituted sulfone, compd. with cyclic sulfonate ester, polyaryl alcohol terminated.
P-20-0025A | 2 | 12/17/2019 | Biosynthetic Technologies | (S) Motor oil lubricant, formulation #1 (prepared at a processor which is controlled by others),(S) Motor oil lubricant, formulation #2 (prepared at a processor which is controlled by others) | (S) Octadecanoic acid, 12-(acetoxy)-, 2-ethylhexyl ester.
P-20-0025A | 3 | 01/07/2020 | Biosynthetic Technologies | (S) Motor oil lubricant, formulation #1 (prepared at a processor which is controlled by others),(S) Motor oil lubricant, formulation #2 (prepared at a processor which is controlled by others) | (S) Octadecanoic acid, 12-(acetoxy)-, 2-ethylhexyl ester.
P-20-0026A | 3 | 01/13/2020 | GE Healthcare | (S) The new monomer is isolated and used for subsequent polymerization | (G) N-alkyl heteromonocyclic diphenolamide.
P-20-0027 | 5 | 01/10/2020 | H.B. Fuller Company | (S) Industrial Adhesives | (G) Glycols, alpha, omega-, c2-6, polymers with adipic acid, dodecanedioic acid, hydracrylic acid polyester, isophthalic acid, 1,1′-methylenebis[4-isocyanatobenzene], neopentyl glycol and terephthalic acid.
P-20-0028 | 5 | 01/10/2020 | H.B. Fuller Company | (S) Industrial Adhesives | (G) glycols, alpha, omega-, c2-6, polymers with adipic acid, aromatic polyester, dodecanedioic acid, hydracrylic acid polyester, isophthalic acid, 1,1′-methylenebis[4-isocyanatobenzene], neopentyl glycol and terephthalic acid.
P-20-0029A | 3 | 01/14/2020 | Kuraray America, Inc | (G) Oil soluble additive | (S) Octanal, 7(or 8)-formyl-.
P-20-0031 | 3 | 01/06/2020 | CBI | (G) Intermediate | (G) Perfluorinated substituted 1,3-oxathiolane dioxide.
P-20-0032A | 2 | 01/15/2020 | Engineered Bonded Structures and Composites | (S) Talathol PO3, the material for which this notice is filed, is intended to be used as a copolymer in the production of urethane foam or coating. This is intended to replace lauan (also spelled luan) paneling which is used in manufacturing prefabricated buildings | (G) Polyethylene terephthalate polyol.
P-20-0032A | 3 | 01/24/2020 | Engineered Bonded Structures and Composites | (S) Talathol PO3, the material for which this notice is filed, is intended to be used as a copolymer in the production of urethane foam or coating. This is intended to replace lauan (also spelled luan) paneling which is used in manufacturing prefabricated buildings | (G) Polyethylene terephthalate polyol.
P-20-0033 | 2 | 01/06/2020 | CBI | (G) Intermediate | (G) Perfluorinated vinyl haloalkane sulfonate salt.
P-20-0034 | 2 | 01/06/2020 | CBI | (G) Intermediate | (G) Perfluorinated vinyl haloalkane sulfonyl halide.
P-20-0035A | 2 | 01/21/2020 | CBI | (G) Colorant | (G) Substituted aromatic, 3,3′-[[6-[(substituted alkyl amino)]-1,3,5-triazine-2,4-diyl]bis[imino[2-(substituted)-5-[substituted alkoxy]-4,1-phenylene]-2,1- diazenediyl]]bis[substituted, sodium salt].
P-20-0039 | 2 | 01/12/2020 | Miwon North America, Inc | (S) Resins for Industrial coating | (G) Hexanedioic acid, polymer with alkyl(substituted-alkyl)-alkanediol and 1,3-isobenzofurandione, 2-propenoate.
P-20-0040 | 4 | 01/06/2020 | CBI | (G) Additive for use in inks, coatings, adhesives and sealants | (G) 2-Propenoic acid, cycloalkyl ester,.
P-20-0041 | 2 | 01/07/2020 | Kuraray America, Inc | (G) Chemical Intermediate for Coatings | (S) 1,3-Benzenedicarboxylic acid, polymer with 3-methyl-1,5-pentanediol.
P-20-0042 | 2 | 01/08/2020 | CBI | (G) Photoresist use at customer | (G) Sulfonium, trisaryl-, 7,7-dialkyl-2-heteropolycyclic -1-alkanesulfonate (1:1).
P-20-0042A | 3 | 01/14/2020 | CBI | (G) Photoacid generator use at customer | (G) Sulfonium, trisaryl-, 7,7-dialkyl-2-heteropolycyclic -1-alkanesulfonate (1:1).
P-20-0044 | 1 | 01/23/2020 | Angus Chemical Company | (G) curing additive: automotive paint (G) neutralization, stability and pigment dispersancy in industrial latex paints (G) neutralization, solubilization and stability in commercial waterborne and solvent borne coatings and varnishes used for wood, metal, compositites, and other substrates (G) solubilizer for high acid value styrene acrylic polymers for use in ink applications (G) additive for industrial polyurethane dispersions | (S) 1-Propanamine, 3-methoxy-N,N-dimethyl.
P-20-0046 | 1 | 01/28/2020 | CBI | (G) Catalyst | (G) Reaction products of alkyl-terminated alkylalumuminoxanes and {[(pentaalkylphenyl-(pentaalkylphenyl)amino)alkyl]alkanediaminato}bis(aralkyl) transition metal coordination compound.
P-20-0051 | 1 | 01/31/2020 | CBI | (S) Curing agent for Industrial epoxy coating systems | (S) 1,8-Octanediamine, 4-(aminomethyl)-, N-benzyl derivs.
SN-17-0011A | 3 | 01/16/2020 | CBI | (G) Foam additive (G) Specialty gas and transfer fluid | (G) Polyfluorohydrocarbon.
* The term `Approved' indicates that a submission has passed a quick initial screen ensuring all required information and documents have been provided with the submission prior to the start of the 90-day review period, and in no way reflects the final status of a complete submission review.

In Table II of this unit, EPA provides the following information (to the extent that such information is not claimed as CBI) on the NOCs that have passed an initial screening by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II—NOCs Approved * From 01/01/2020 to 01/31/2020
Case No. | Received date | Commencement date | If amendment, type of amendment | Chemical substance
J-16-0022 | 01/27/2020 | 01/27/2020 | N | (G) Modified trichoderma reesei.
P-10-0002 | 12/16/2019 | 12/16/2019 | N | (S) Soil organic matter, alkaline extract, potassium salt.
P-10-0438 | 01/07/2020 | 07/19/2011 | N | (G) 2-propenoic acid, homopolymer, ester with .alpha.-methyl-polyether compd. with aminoalcohol.
P-16-0310A | 12/18/2019 | 04/09/2018 | Generic chemical name | (G) 12-hydroxystearic acid, reaction products with alkylene diamine and alkanoic acid.
P-16-0314 | 01/28/2020 | 01/23/2020 | N | (S) Ethanone, 1-(5-propyl-1,3-benzodioxol-2-yl)-.
P-16-0509 | 01/13/2020 | 12/17/2019 | N | (G) Modified ethylene-vinyl alcohol copolymer.
P-16-0573 | 01/09/2020 | 02/07/2018 | N | (G) Rosin, tall oil, reaction products with polyalkylene-polysubstituted-terephthalic acid polymer.
P-17-0321 | 01/09/2020 | 01/09/2020 | N | (S) 1,3,5-naphthalene trisulfonic acid trisodium salt.
P-17-0368 | 01/06/2020 | 01/05/2020 | N | (G) Vegetable oil, polymer with alkanedioic acid, alkali lignin, diethylene glycol- and polyol-depolymd. poly(ethylene terephthalate) waste plastics.
P-17-0398 | 01/10/2020 | 11/07/2019 | N | (S) Waste plastics, pyrolyzed, depolymd., c11 to c33 branched,cyclic and linear fraction.a complex combination of hydrocarbons obtained from the fractional condensation of polyolefins and vinyl polymers waste plastics. it consists predominately of c11 to c33 branched, cyclic and linear hydrocarbons and boils in the range of 350 degrees c to 450 degrees c(662 degrees f to 842 degrees f).
P-17-0399 | 01/10/2020 | 11/07/2019 | N | (S) Waste plastics, pyrolyzed, depolymd., c7 to c26-branched, cyclic and linear fraction. a complex combination of hydrocarbons obtained from the fractional condensation of polyolefins and vinyl polymers waste plastics. it consists of predominately c7 to c26 branched, cyclic and linear hydrocarbons and boils in the range of 0 degrees c to 350 degrees c (32 degrees f to 662 degrees f).
P-17-0405 | 12/31/2019 | 12/31/2019 | N | (S) Benzoic acid, 2,3,5-trifluoro-, ethyl ester.
P-17-0406 | 12/31/2019 | 12/31/2019 | N | (S) Benzoic acid, 2,3,6-trifluoro-, ethyl ester.
P-17-0407 | 12/31/2019 | 12/31/2019 | N | (S) Benzoic acid, 2,4,6-trifluoro-, ethyl ester.
P-17-0408 | 12/31/2019 | 12/31/2019 | N | (S) Benzoic acid, 2,3,5-trichloro-,ethyl ester.
P-17-0409 | 12/31/2019 | 12/31/2019 | N | (S) Benzoic acid, 2,3,6-trichloro-,ethyl ester.
P-17-0410 | 12/31/2019 | 12/31/2019 | N | (S) Benzoic acid, 2,4,6-trichloro-,ethyl ester.
P-17-0411 | 12/31/2019 | 12/31/2019 | N | (S) Benzoic acid, 2,3,4-trichloro-,ethyl ester.
P-17-0412 | 12/31/2019 | 12/31/2019 | N | (S) Benzoic acid, 2,4,5-trichloro-,ethyl ester.
P-17-0414 | 12/31/2019 | 12/31/2019 | N | (S) Benzoic acid, 2,4,6-trilfuoro.
P-17-0415 | 12/31/2019 | 12/31/2019 | N | (S) Benzoic acid, 2,4,6-trifluoro-.
P-17-0416 | 12/31/2019 | 12/31/2019 | N | (S) Benzoic acid, 2,3,6-trifluoro-.
P-17-0417 | 12/31/2019 | 12/31/2019 | N | (S) Benzoic acid, 2,3,6-trichloro-.
P-17-0418 | 12/31/2019 | 12/31/2019 | N | (S) Benzoic acid, 2,4,6-trichloro-.
P-17-0420 | 12/31/2019 | 12/31/2019 | N | (S) Benzoic acid, 2,3,5-trichloro-.
P-17-0421 | 12/31/2019 | 12/31/2019 | N | (S) Benzoic acid, 3,4,5-trichloro-.
P-17-0422 | 12/31/2019 | 12/31/2019 | N | (S) Benzoic acid, 2,4,5-trichloro-.
P-17-0423 | 12/31/2019 | 12/31/2019 | N | (S) Benzoic acid, 3,4,5-trichloro-, ethyl ester.
P-17-0441A | 12/31/2019 | 12/31/2019 | Withdrew CBI claim | (S) Benzoic acid, 2,4,6-trifluoro-, sodium salt (1:1).
P-17-0442 | 12/31/2019 | 12/31/2019 | N | (S) Benzoic acid, 2,3,5-trifluoro-, sodium salt (1:1).
P-17-0443 | 12/31/2019 | 12/31/2019 | N | (S) Benzoic acid, 2,3,6-trifluoro-, sodium salt (1:1).
P-17-0444 | 12/31/2019 | 12/31/2019 | N | (S) Benzoic acid, 2,3,6-trichloro-, sodium salt (1:1).
P-17-0445 | 12/31/2019 | 12/31/2019 | N | (S) Benzoic acid, 2,3,5-trichloro-, sodium salt (1:1).
P-17-0446 | 12/31/2019 | 12/31/2019 | N | (S) Benzoic acid, 2,4,6-trichloro-, sodium salt (1:1).
P-17-0447 | 12/31/2019 | 12/31/2019 | N | (S) Benzoic acid, 2,4,5-trichloro-, sodium salt (1:1).
P-17-0448 | 12/31/2019 | 12/31/2019 | N | (S) Benzoic acid, 3,4,5-trichloro-, sodium salt (1:1).
P-17-0449 | 12/31/2019 | 12/31/2019 | N | (S) Benzoic acid, 2,3,4-trichloro-, sodium salt (1:1).
P-17-0450 | 12/31/2019 | 12/31/2019 | N | (S) 2,5-dichlorobenzoic acid.
P-18-0018 | 01/06/2020 | 12/11/2019 | N | (G) Fluorinated acrylate, polymer with alkyloxirane homopolymer monoether with alkanediol mono(2-methyl-2-propenoate), tert-bu 2-ethylhexaneperoxoate-initiated.
P-18-0091 | 01/06/2020 | 01/05/2020 | N | (G) Vegetable oil, polymers with diethylene glycol- and polyol- and polyethylene glycol-depolymd. poly(ethylene terephthalate) waste plastics and arylcarboxylic acid anhydride.
P-18-0101 | 12/27/2019 | 12/06/2019 | N | (G) Polyol esters.
P-18-0179 | 01/20/2020 | 01/13/2020 | N | (G) Phenolic resin, alkali, polymer with formaldehyde and phenol, sodium salt.
P-18-0234 | 01/08/2020 | 12/09/2019 | N | (G) Alkenoic acid, reaction products with bis substituted alkane and ether polyol,.
P-18-0285 | 01/07/2020 | 12/27/2019 | N | (S) Butanedioic acid, 2-methylene-, polymer with 2-methyl- 2-[(1-oxo-2-propen-1-yl)amino]-1-propanesulfonic acid, sodium zinc salt.
P-18-0392 | 01/17/2020 | 01/04/2020 | N | (S) 2-oxazolidinone, 3-ethenyl-5-methyl-.
P-18-0401 | 01/21/2020 | 12/26/2019 | N | (S) Glycerides, c16-18 and ci8-unsatd. mono- and di-, citrates.
P-18-0402 | 12/20/2019 | 12/19/2019 | N | (G) Phenol, alkanediylbis(iminoalkylene)bis-, bis(polyisoalkylene) derivs.
P-19-0034 | 01/20/2020 | 01/07/2020 | N | (G) Metal, bis(2,4-pentanedionato-ko2,ko4)-, (t-4)-,.
P-19-0097 | 12/18/2019 | 12/18/2019 | N | (S) Benzoic acid, 5-fluoro-2-methyl-, ethyl ester.
P-19-0103 | 01/09/2020 | 01/01/2020 | N | (S) Benzoic acid, 3-chloro-2-fluoro-, ethyl ester.
P-19-0104 | 12/18/2019 | 12/18/2019 | N | (S) Benzoic acid, 2-chloro-3-methyl-, ethyl ester.
P-19-0108 | 12/18/2019 | 12/18/2019 | N | (S) Benzoic acid, 2-chloro-4-methyl-, ethyl ester.
P-19-0118 | 01/10/2020 | 12/13/2019 | N | (G) Substituted polylalkylenepoly, reaction products with alkene polymer.
P-19-0146 | 12/18/2019 | 12/03/2019 | N | (G) Modified dimethyl sulfoxide.
* The term `Approved' indicates that a submission has passed a quick initial screen ensuring all required information and documents have been provided with the submission.

In Table III of this unit, EPA provides the following information (to the extent such information is not subject to a CBI claim) on the test information that has been received during this time period: The EPA case number assigned to the test information; the date the test information was received by EPA, the type of test information submitted, and chemical substance identity.

Table III—Test Information Received From 01/01/2020 to 01/31/2020
Case No. | Received date | Type of test information | Chemical substance
L-20-0055 | 01/27/2020 | Ames Test | (G) Imidazo[4,5-d]imidazole-2,5(1h,3h)-dione, tetrahydro-substituted alkyl-.
P-16-0349 | 01/20/2020 | Inherent Biodegradability (OECD Test Guideline 302B), Acute Invertebrate Toxicity Freshwater Daphnids (OCSPP Test Guideline 850.1010), Fish Acute Toxicity (Rainbow Trout) Study and Fish Acute Toxicity (Sheepshead Minnow) Study (OCSPP Test Guideline 850.1075), Fish Acute Toxicity with Humic Acid Rainbow Trout) (OCSPP Test Guideline 850.1085) and Algae Acute Toxicity Study (OCSPP 850.4500) | (G) Quaternary ammonium salt of polyisobutene succinic acid.
P-16-0462 | 01/21/2020 | Metals Analysis Report | (G) Silane-treated aluminosilicate.
P-17-0195 | 01/15/2020 | Combined Repeated Dose and Reproductive/Developmental Toxicity Test of [claimed CBI] by Oral Administration in Rats (OECD Test Guideline 422) | (G) 1,3-propanediol,2-methylene-, substituted.
P-18-0293 | 12/18/2019 | In vitro Skin Irritation Test with Chemilian L3000 XP using a Human Skin Model (OECD 439) and In vitro Skin Irritation Test with Chemilian H4000 XP using a Human Skin Model (OECD 439) | (S) Propanedioic acid, 2-methylene-, 1,3-dihexyl ester.
P-18-0293 | 01/22/2020 | An Acute Study of Chemilian L3000 XP by Oral Gavage in Rat (Fixed Dose Method) | (S) Propanedioic acid, 2-methylene-, 1,3-dihexyl ester.
P-18-0294 | 01/24/2020 | An Acute Study of Chemilian H4000 XP by Oral Gavage in Rat (Fixed Dose Method) | (S) Propanedioic acid, 2-methylene-, 1,3-dicyclohexyl ester.
P-18-0294 | 01/15/2020 | An Acute Study of Chemilian H4000 XP by Oral Gavage in Rat (Fixed Dose Method) | (S) Propanedioic acid, 2-methylene-, 1,3-dicyclohexyl ester.
P-18-0351 | 01/16/2020 | Drum Emptying Study | (G) Acrylic acid, tricyclo alkyl ester.
P-19-0147 | 12/20/2019 | Algal Study Supplement | (G) Alkoxylated butyl alkyl ester.

If you are interested in information that is not included in these tables, you may contact EPA's technical information contact or general information contact as described under FOR FURTHER INFORMATION CONTACT to access additional non-CBI information that may be available.

Authority: 15 U.S.C. 2601 et seq.

Dated: March 4, 2020.
Pamela Myrick,
Director, Information Management Division, Office of Pollution Prevention and Toxics.

[FR Doc. 2020-04891 Filed 3-9-20; 8:45 am]

BILLING CODE 6560-50-P